DEPARTMENT OF LABOR

Employment and Training Administration

Announcement Regarding a Change In Eligibility for Unemployment Insurance (UI) Claimants In Alaska in the Emergency Unemployment Compensation 2008 (EUC08) Program

AGENCY: Employment and Training Administration, Labor.

ACTION: Notice.

SUMMARY: The U.S. Department of Labor (Department) produces trigger notices indicating which states qualify for EUC08 benefits, and provides the beginning and ending dates of payable periods for each qualifying state. The trigger notices covering state eligibility for this program can be found at: http://ows.doleta.gov/unemploy/claims_arch.asp.

The following changes have occurred since the publication of the last notice regarding states EUC08 trigger status:

• Alaska triggers “on” to Tier 3 of EUC08 effective 12/8/2013.

Alaska's 13-week insured unemployment rate for the week ending November 23, 2013, was 4.06%, exceeding the 4.0% trigger rate threshold necessary to trigger “on” Tier 3 of EUC08. The week beginning December 8, 2013, was the first week in which EUC08 claimants in Alaska who had exhausted Tier 2, and were otherwise eligible, could establish Tier 3 eligibility.

Information for Claimants

The duration of benefits payable in the EUC08 program, and the terms and conditions under which they are payable, are governed by public laws 110-252, 110-449, 111-5, 111-92, 111-118, 111-144, 111-157, 111-205, 111-312, 112-96, and 112-240, and the operating instructions issued to the states by the Department.

In the case of a state beginning or concluding a payable period in EUC08, the State Workforce Agency (SWA) will furnish a written notice of any change in potential entitlement to each individual who could establish, or had established, eligibility for benefits (20 CFR 615.13(c)(1) and (c)(4)). Persons who believe they may be entitled to benefits in the EUC08 program, or who wish to inquire about their rights under this program, should contact their SWA.

FOR FURTHER INFORMATION CONTACT: Tony Sznoluch, U.S. Department of Labor, Employment and Training Administration, Office of Unemployment Insurance, 200 Constitution Avenue NW., Frances Perkins Bldg. Room S-4524, Washington, DC 20210, telephone number (202) 693-3176 (this is not a toll-free number) or by email: sznoluch.anatoli@dol.gov.

Signed in Washington, DC, this 10th day of January, 2014.
Eric M. Seleznow,
Acting Assistant Secretary for Employment and Training.

[FR Doc. 2014-02430 Filed 2-4-14; 8:45 am]

BILLING CODE 4510-FW-P